DEPARTMENT OF DEFENSE

Department of the Army; Corps of Engineers

Notice of Intent To Prepare an Environmental Impact Statement for the Missouri River Bed Degradation Feasibility Study, Kansas and Missouri, United States

AGENCY: Department of the Army, U.S. Army Corps of Engineers, DoD.

ACTION: Notice of intent.

SUMMARY: Pursuant to the National Environmental Policy Act of 1969 (NEPA), as amended, the U.S. Army Corps of Engineers (USACE), Kansas City District intends to prepare the Missouri River Bed Degradation Feasibility Study and Environmental Impact Statement (EIS). The Feasibility Study will develop and evaluate a range of alternatives, including potential impacts to the human environment, to address bed degradation, or down cutting, of the Missouri River which is negatively impacting critical federal, other public and private infrastructure. The study is being conducted under Section 216 of the Flood Control Act of 1970 (Pub. L. 91-611). This notice announces the scoping process to solicit public comments to identify issues related to the proposed project.

ADDRESSES: Written comments can be submitted through March 31, 2014 to U.S. Army Corps of Engineers, Kansas City District, c/o CENWK-PM-PR (Degradation Study), 601 E. 12th Street, Kansas City, MO 64106, or electronically at: http://www.marc.org/Environment/Water-Resources/Missouri-Riverbed-Degradation/Get-Involved.aspx.

FOR FURTHER INFORMATION CONTACT: For further information or questions about the study, please contact Ms. Christina Ostrander, Project Manager, by telephone: (816) 389-3143, by mail: 601 E. 12th Street, Kansas City, MO, or by electronic mail: Christina.Ostrander@usace.army.mil. For inquiries from the media, please contact the Corps' Kansas City District Public Affairs Officer, Mr. David Kolarik by telephone: (816) 389-3486, by mail: 601 E. 12th Street, Kansas City, MO 64106, or by electronic mail: David.S.Kolarik@usace.army.mil.

SUPPLEMENTARY INFORMATION: The Missouri River Bed Degradation Feasibility Study is being conducted under Section 216 of the Flood Control Act of 1970 (Pub. L. 91-611). This act allows the Corps of Engineers to review completed navigation, flood control, and water supply projects in which there have been significant changes in the physical or economic conditions from the time they were constructed. A report is prepared for Congress recommending any modifications to improve the project in the overall public interest. The Missouri River Bank Stabilization and Navigation Project (BSNP) is currently being evaluated as the completed federal project for the Missouri River Bed Degradation Feasibility Study under this authority. The BSNP was originally authorized by the Rivers and Harbors (RHA) of 1912, and modified by subsequent authorizations in 1925, 1927, and 1945. Combined, these acts provided a 9-foot deep channel 300-foot wide from Sioux City, Iowa to the river mouth near St Louis, Missouri for the purpose of navigation. These channel dimensions are maintained by a series of dikes, revetments, and sills to create a self scouring channel. Water releases from large upstream reservoirs also contribute to providing for the authorized channel dimensions.

In some locations, the bed of the Missouri has been degrading, or down cutting, at an accelerated rate beginning in the early 1990s. This is negatively impacting critical federal and non-federal infrastructure by lowering both the bed and surface water elevations. This is particularly evident in the Kansas City reach of the Missouri River, extending from river mile 357 to 410. Specifically, bed degradation has resulted in an increased cost to maintain and operate the BSNP. Additionally, bridges, utility crossings, flood risk management structures, and water intake structures have been modified because of a lower river bed and water surface. Ground water elevations adjacent to the river have also been reduced, impacting water wells. Degradation of the river is also creating similar impacts to Missouri River tributaries as they degrade to maintain a common bed elevation with the Missouri River. Expenses to maintain infrastructure in locations of bed degradation are expected to continue into the future if the problem is not corrected.

Scoping: To provide the public with an opportunity to provide input on the scope of issues to be addressed and to identify issues related to the proposed action, public scoping is being conducted through March 31, 2014. As part of public scoping, a meeting will be held on March 11, 2014 from 4:30 p.m. to 7:00 p.m. Daylight Savings Time. The meeting will be held at the Mid-America Regional Council (MARC) located at 600 Broadway, Kansas City, MO 64105. Driving directions are available at: http://www.marc.org/What-is-MARC/Find-Us/Map-and-Parking.

In addition to complying with NEPA and Corps of Engineers planning guidance, scoping will be utilized to partially fulfill National Historic Preservation Act (NHPA) Section 106 requirements. Except where subject of the confidentiality provision of Section 304 of the NHPA, all comments received during scoping will become part of a public record and may be included as an appendix to the Final Missouri River Bed Degradation Feasibility Study and Environmental Impact Statement. A Draft EIS is expected to be circulated for public comment in Spring/Summer 2015.

Christina Ostrander,
Project Manager, U.S. Army Corps of Engineers, Kansas City District.

[FR Doc. 2014-02649 Filed 2-6-14; 8:45 am]

BILLING CODE 3720-58-P